DEPARTMENT OF AGRICULTURE

Rural Utilities Service

National Power Cooperative; Notice of Intent

AGENCY: Rural Utilities Service, USDA.

ACTION: Notice of intent to hold a public meeting and prepare an environmental assessment.

SUMMARY: Notice is hereby given that the Rural Utilities Service (RUS), pursuant to the National Environmental Policy Act of 1969 (42 U.S.C. 4321 et seq.), the Council on Environmental Quality (CEQ) Regulations for Implementing NEPA (40 CFR parts 1500-1508), and RUS Environmental Policies and Procedures (7 CFR part 1794) proposes to prepare an Environmental Assessment for possible financing assistance to National Power Cooperative, Inc. (NPC) to construct a 510 megawatt, natural gas fired combustion turbine electric generation plant in northwest Ohio.

MEETING INFORMATION: RUS will conduct a public meeting in an open house forum on Wednesday, February 16, 2000, from 6:30 p.m. until 8:30 p.m., at Delphos Jefferson Senior High School on Route 66 in Delphos, Ohio. All interested parties are invited to attend the meeting.

FOR FURTHER INFORMATION CONTACT: Bob Quigel, Engineering and Environmental Staff, Rural Utilities Service, at (202) 720-0468. Bob's E-mail address is: bquigel@rus.usda.gov. You can also contact Keith A. Crabtree of NPC at (614) 846-5757. Keith's email address is: kac@buckeyepower.com.

SUPPLEMENTARY INFORMATION: NPC, a wholly owned subsidiary of the Ohio Rural Electric Cooperatives, proposes to construct the natural gas fired electric generation plant at one of two potential sites. One site is located in Van Wert County near Convoy, just southwest of the intersection of Mentzer Road and Shaner Road. The other site is located in Allen County, east of Cairo, north of the Lincoln Highway between Stewart Road and Slabtown Road.

The proposed project will be composed of three gas fired turbine generation units with an output of 170 megawatts each. The entire plant will require approximately 30 acres. No major natural gas pipeline or electric transmission line improvements will be needed at either site beyond the proposed site boundaries. Specific details of the plant will be available at the scoping meeting.

Alternatives to be considered by RUS to constructing the generation facility proposed include: (a) No action, (b) Load management, (c) Purchased power, and (d) An alternative site location.

To be presented at the public scoping meeting will be a siting study and alternative evaluation study prepared by AEP Resources and Dames & Moore for NPC. The siting study and alternative evaluation study are available for public review at RUS in Room 2242, 1400 Independence Avenue, SW, Washington, DC, and at the NPC headquarters located at 6677 Busch Boulevard, Columbus, Ohio. This document will also be available at the Lima Public Library, 650 W. Market St., Lima, Ohio (419-228-5113) and it's Cairo Branch, 519 Wall St., Cairo, Ohio (419-641-7744) and at the Brumback Library, 215 W. Main St. in Van Wert, Ohio (419-238-2168) and it's Convoy Branch, 116 E. Tully St., Convoy, Ohio (419-749-4000).

Government agencies, private organizations, and the public are invited to participate in the planning and analysis of the proposed project. Representatives of RUS and NPC will be available at the scoping meeting to discuss RUS' environmental review process, describe the project and alternatives under consideration, discuss the scope of environmental issues to be considered, answer questions, and accept oral and written comments. Written comments will be accepted for at least 30 days after the public scoping meeting.

From information provided in the siting study and alternative evaluation study, input that may be provided by government agencies, private organizations, and the public, NPC will prepare an environmental analysis to be submitted to RUS for review. RUS will use the environmental analysis to determine the significance of the impacts of the project and may adopt it as its environmental assessment of the project. RUS' environmental assessment of the project would be available for review and comment for 30 days.

Should RUS determine, based on the environmental assessment of the project, that the impacts of the construction and operation of the plant would not be significant, it will prepare a finding of no significant impact. Public notification of a finding of no significant impact would be published in the Federal Register and in newspapers with a circulation in the project area.

Any final action by RUS related to the proposed project will be subject to, and contingent upon, compliance with environmental review requirements as prescribed by CEQ and RUS environmental policies and procedures.

Dated: January 24, 2000.
Glendon D. Deal,
Acting Director, Engineering and Environmental Staff.

[FR Doc. 00-2014 Filed 1-28-00; 8:45 am]

BILLING CODE 3410-15-P